DEPARTMENT OF HOUSING AND URBAN DEVELOPMENT

[Docket No. FR-4630-N-32]

Announcement of Funding Awards for Fiscal Year 2001 Doctoral Dissertation Research Grant Program

AGENCY: Office of the Assistant Secretary for Policy Development and Research, HUD.

ACTION: Announcement of funding awards.

SUMMARY: In accordance with section 102(a)(4)(C) of the Department of Housing and Urban Development Reform Act of 1989, this document notifies the public of funding awards for the Fiscal Year 2001 Doctoral Dissertation Research Grant (DDRG) Program. The purpose of this document is to announce the names and addresses of the award winners and the amount of the awards to be used to help doctoral candidates complete dissertations on topics that focus on housing and urban development issues.

FOR FURTHER INFORMATION CONTACT: Jane Karadbil, Office of University Partnerships, U.S. Department of Housing and Urban Development, Room 8110, 451 Seventh Street, SW., Washington, DC 20410, telephone (202) 708-1537, extension 5918. To provide service for persons who are hearing- or speech-impaired, this number may be reached via TTY by dialing the Federal Information Relay Service on (800) 877-8399, or 202-708-1455. (Telephone numbers, other than the two “800” numbers, are not toll free.)

SUPPLEMENTARY INFORMATION: The DDRG is administered by the Office of University Partnerships under the Assistant Secretary for Policy Development and Research (PD&R). This Office also administers PD&R's other grant programs for academics.

The DDRG Program was created as a means of expanding the number of researchers conducting research on subjects of interest to HUD. Doctoral candidates can receive grants of up to $30,000 to complete work on their dissertations. Grants are for a two-year period.

The Catalog of Federal Domestic Assistance number for this program is 14.516.

On February 26, 2001 (66 FR 12415) HUD published a Notice of Funding Availability (NOFA) announcing the availability of $600,000 in FY 2001 funds for the DDRG Program. The Department reviewed, evaluated and scored the applications received based on the criteria in the NOFA. As a result, HUD has funded the applications announced below, and in accordance with Section 102(a)(4)(C) of the Department of Housing and Urban Development Reform Act of 1989 (103 Stat. 1987, U.S.C. 3545), the Department is publishing details concerning the recipients of funding awards, as set forth below. More information about the winners can be found at www.oup.org.

List of Awardees for Grant Assistance Under The FY 2001 Doctoral Dissertation Reseach Grant Program Funding Competition, by Name, Address, Phone Number, Grant Amount and Number of Students Funded

1. Boston University, Dr. Nazli Kibria, Institute on Race and Social Division, 704 Commonwealth Avenue, Boston, MA 02215, (617) 353-5834. Grant: $29,985 to Silvia Doḿnquez.

2. City University of New York, Dr. Thomas Kessner, Graduate Center, History Department, 365 Fifth Avenue, Suite 5114, New York, NY 10016, (212) 817-8430. Grant: $30,000 to Dan Wishnoff.

3. Cornell University, Dr. Thomas Hirsch, Department of Rural Sociology, 119 Warren Hall, Ithaca, NY 14853, (607 255-1688). Grant: $30,000 to Daniel A. Sandoval.

4. Cornell University, Dr. David Brown, Department of Rural Sociology, 119 Warren Hall, Ithaca, NY 14853, (607) 255-3159. Grant: $23,570 to Kai Schafft.

5. Georgia Institute of Technology, Dr. Nancy Green Leigh, City and Regional Planning Program, 245 Fourth Street, Atlanta, GA 30332, (404) 894-9839. Grant: $15,000 to Sarah L. Coffin.

6. Howard University, Dr. Rodney Green, Department of Economics, 2400 4th Street, NW., Washington, DC 20059, (202) 806-6717. Grant: $29,991 to LaTanya Brown.

7. North Carolina State University, Dr. James Svara, Public Administration Program, Campus Box 8102, Raleigh, NC 27695, (919) 515-2481. Grant: $30,000 to Jonathan Morgan.

8. Northwestern University, Dr. Allan Schnaiburg, 1810 Chicago Avenue, Evanston, IL 60208, (847) 491-3202. Grant: $30,000 to Matthew Z. Reed.

9. Rutgers, the State University of New Jersey, Dr. Norman Glickman, Department of Urban Planning and Policy Development, 33 Livingston Avenue, New Brunswick, NJ 08901, (732) 932-3133. Grant: $30,000 to Jennifer Altman.

10. State University of New York, Dr. Richard Smardon, College of Environmental Science and Forestry, 107 Marshall Hall, Syracuse, NY 13210, (315) 470-6636. Grant: $30,000 to Susan Thering.

11. University of California, Irvine, Department of Urban and Regional Planning, 202 Social Ecology I, Irvine, CA 92697, (949) 824-7695. Grant: $30,000 to Roxanne Ezzet-Lundquist.

12. University of Connecticut, Susan Porter Benson, Department of History, U-103, 241 Glenbrook Road, Storrs, CT 06269, (860) 486-3154. Grant: $30,000 to Leslie Frank.

13. University of Chicago, Dr. Linda J. Waite, Department of Sociology, 1126 East 59th Street, Chicago, IL 60637, (773) 256-6333. Grant: $30,000 to Jimbum Kim.

14. University of Maryland, Dr. Peter Reuter, 2101 Van Munching Hall, College Park, MD 20742, (301) 405-6367. Grant: $30,000 to Zhong Yi Tong.

15. University of Massachusetts at Boston, Dr. Yung-Ping Chien, Gerontology Institute, 100 Morrisey Blvd., Boston, MA 02125, (617) 287-7326. Grant: $30,000 to Richard W. McConaghy.

16. University of Michigan, Dr. Leon A. Pastalan, College of Architecture and Urban Planning, 2000 Bonnisteel Blvd., Ann Arbor, MI 48109, (734) 763-1275. Grant: $30,000 to Tien-Chien Tsao.

17. University of Pennsylvania, Carol Wilson Spigner, School of Social Work 3701 Locust Walk, Philadelphia, PA 19104, (215) 898-2507. Grant: $30,000 to Howard Nemon.

18. University of North Carolina at Chapel Hill, Dr. William Rohe, CB# 3410 Nickerson House, Chapel Hill, NC 27599, (919) 962-3074. Grant: $13,005 to Shannon Van Zandt.

19. University of Pennsylvania, Dr. Doug Massey, Department of Sociology, McNeil Building, 3718 Locust Walk, Philadelphia, PA 19104, (215) 898-4688. Grant: $28,730 to Susan Clampet-Lundquist.

20. University of Southern California, Dr. Peter Gordon, School of Policy, Planning and Development, University Park, RGL 331c, Los Angeles, CA 90089, (213) 740-1467. Grant: $28,150 to Falan Guan.

21. University of Washington, Suzanne Davies Withers, Department of Geography, Box 35-3550, Seattle, WA 98195, (206) 616-9064. Grant: $29,236 to Carolina M. Katz.

Dated: July 26, 2001.
Lawrence L. Thompson,
General Deputy Assistant Secretary for Policy Development and Research.

[FR Doc. 01-20164 Filed 8-10-01; 8:45 am]

BILLING CODE 4210-62-P